DEPARTMENT OF TRANSPORTATION

Federal Aviation Administration

[Docket No. FAA-2023-2327]

Agency Information Collection Activities: Requests for Comments; Clearance of a Renewed Approval of Information Collection: Unmanned Aircraft Remote Identification Message Elements

AGENCY: Federal Aviation Administration (FAA), DOT.

ACTION: Notice and request for comments.

SUMMARY: In accordance with the Paperwork Reduction Act of 1995, FAA invites public comments about our intention to request the Office of Management and Budget (OMB) approval to renew an information collection. The collection involves electronic information that is broadcast directly from certain unmanned aircraft, specifically standard remote identification unmanned aircraft and unmanned aircraft equipped with a remote identification broadcast module. With certain limited exceptions, the Remote Identification of Unmanned Aircraft rule prohibits the operation of unmanned aircraft within the airspace of the United States unless the unmanned aircraft are broadcasting certain remote identification message elements throughout their operation. An exception to the general rule is when an unmanned aircraft is not equipped with remote identification equipment but is operated within visual line of sight and within an FAA-recognized identification area.

DATES: Written comments should be submitted by January 22, 2024.

ADDRESSES: Please send written comments:

By Electronic Docket: www.regulations.gov (Enter docket number into search field).

By mail: Benjamin Walsh, FAA Flight Standards Service, Emerging Technologies Division, AFS-700, 800 Independence Ave SW, Washington, DC 20591.

By fax: 202-267-8233.

FOR FURTHER INFORMATION CONTACT: Benjamin Walsh by email at: ben.walsh@faa.gov; phone: 202-267-8233.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0783.

Title: Unmanned Aircraft Remote Identification Message Elements.

Form Numbers: N/A.

Type of Review: Renewal of an information collection.

Background: Regulations for the Remote Identification of Unmanned Aircraft were published on January 15, 2021, and are contained in 14 Code of Federal Regulations (14 CFR), part 89. Requirements for the operation of unmanned aircraft with remote identification are contained in part 89, subpart B. The Remote Identification rule requires unmanned aircraft with remote identification equipment to broadcast remote identification message elements directly from the unmanned aircraft using radio frequency spectrum in accordance with 47 CFR part 15, where operations may occur without a Federal Communications Commission (FCC) individual license. These unmanned aircraft include standard remote identification unmanned aircraft and unmanned aircraft equipped with remote identification broadcast modules.

A standard remote identification unmanned aircraft must be capable of broadcasting the following remote identification message elements:

(a) The identity of the unmanned aircraft consisting of:

(1) A serial number assigned to the unmanned aircraft by the person responsible for the production of the standard remote identification unmanned aircraft; or

(2) A session ID.

(b) An indication of the latitude and longitude of the control station.

(c) An indication of the geometric altitude of the control station.

(d) An indication of the latitude and longitude of the unmanned aircraft.

(e) An indication of the geometric altitude of the unmanned aircraft.

(f) An indication of the velocity of the unmanned aircraft.

(g) A time mark identifying the Coordinated Universal Time (UTC) time of applicability of a position source output.

(g) An indication of the emergency status of the unmanned aircraft.

A remote identification broadcast module must be capable of broadcasting the following remote identification message elements:

(a) The identity of the unmanned aircraft consisting of the serial number assigned to the remote identification broadcast module by the person responsible for the production of the remote identification broadcast module.

(b) An indication of the latitude and longitude of the unmanned aircraft.

(c) An indication of the geometric altitude of the unmanned aircraft.

(d) An indication of the velocity of the unmanned aircraft.

(e) An indication of the latitude and longitude of the take-off location of the unmanned aircraft.

(f) An indication of the geometric altitude of the take-off location of the unmanned aircraft.

(g) A time mark identifying the Coordinated Universal Time (UTC) time of applicability of a position source output.

The collection of this information in the remote identification message elements is necessary to comply with the FAA's statutory requirement to develop and implement standards for remotely identifying operators and owners of unmanned aircraft. The collection of this information will also provide airspace awareness to enable the FAA, national security agencies, and law enforcement entities to distinguish compliant airspace users from those potentially posing a safety or security risk.

The remote identification message elements that unmanned aircraft operators are required to broadcast under Part 89 are considered publicly available information. The remote identification message elements broadcast directly from the unmanned can be received by anyone who has the appropriate equipment, such as a personal wireless device, that can receive broadcast messages.

Respondents: The collection of information through the broadcasting of message elements from a standard remote identification unmanned aircraft or remote identification broadcast module is entirely automatic. The collection uses automated, electronic, and related technological collection techniques. This framework makes it relatively simple and straightforward for individuals to comply with the broadcast requirements by operating unmanned aircraft that are standard remote identification unmanned aircraft or unmanned aircraft equipped with a remote identification broadcast module.

Frequency: Operators of unmanned aircraft with remote identification are required to broadcast the remote identification message elements addressed in this information collection on occasion (when the unmanned aircraft with remote identification is operated in the airspace of the United States).

Estimated Average Burden per Response: To transmit remote identification message elements, each remote pilot is required to operate either a standard remote identification unmanned aircraft or unmanned aircraft equipped with a remote identification broadcast module. The collection of information through the broadcasting of the remote identification message elements is entirely automatic, therefore there is no average burden associated with the broadcast of the remote identification message elements.

Estimated Total Annual Burden: The collection of information through the broadcasting of the remote identification message elements is entirely automatic, therefore there is no annual burden associated with the broadcast of the remote identification message elements.

Issued in Washington, DC, on November 17, 2023.
Joseph Morra,
Manager, Emerging Technologies Division, AFS-700.

[FR Doc. 2023-25839 Filed 11-21-23; 8:45 am]

BILLING CODE 4910-13-P